DEPARTMENT OF TRANSPORTATION

Research and Special Programs Administration

[Docket No. RSPA-2002-11270, Notice No. 02-2]

Safety Advisory: Unauthorized Marking of Compressed Gas Cylinders

AGENCY: Research and Special Programs Administration (RSPA), DOT.

ACTION: Safety advisory notice.

SUMMARY: This is to notify the public that RSPA and the Department of Transportation's Office of Inspector General (OIG) are investigating the unauthorized marking of high-pressure compressed gas cylinders by Fire Safety Products, Inc. Fire Safety Products, Inc. has two facilities: 203 Depot Street, Christiansburg, VA 24073, and 101 Beckley Road, Princeton, WV 24605. RSPA and the OIG determined that Fire Safety Products marked and certified an undetermined number of high pressure DOT specification and exemption cylinders as properly tested in accordance with the Hazardous Materials Regulations (HMR), when the cylinders were not hydrostatically retested or visually inspected, or when the cylinders were improperly tested and inspected.

A hydrostatic retest and visual inspection, conducted as prescribed in the HMR, are used to verify the structural integrity of a cylinder. If the hydrostatic retest and visual inspection are not performed in accordance with the HMR, a cylinder with compromised structural integrity may be returned to service when it should be condemned. Extensive property damage, serious personal injury, or death could result from rupture of a cylinder. Cylinders not retested in accordance with the HMR may not be charged or filled with compressed gas or other hazardous material and offered for transportation in commerce.

FOR FURTHER INFORMATION CONTACT: Anthony Lima, Hazardous Materials Enforcement Specialist, Eastern Region, Office of Hazardous Materials Enforcement, Research and Special Programs Administration, U.S. Department of Transportation, 820 Bear Tavern Road, Suite 306, W. Trenton, NJ 08034. Telephone: (609) 989-2256, Fax: (609) 989-2277.

SUPPLEMENTARY INFORMATION: Through its investigation of Fire Safety Products, RSPA and the OIG determined that Fire Safety Products marked and certified an undetermined number of cylinders as properly tested in accordance with the HMR without conducting proper testing of the cylinders. RSPA and the OIG also discovered that Fire Safety Products destroyed all records of retest and reinspection created prior to April 2001. As a result of this destruction of records, it is impossible to determine, at this time, the number of cylinders in question. The cylinders detailed on Fire Safety Products' records from April 2001 to August 2001 may only represent a limited number of the total number of cylinders that Fire Safety Products apparently marked and certified as in compliance with the HMR, without properly testing and inspecting them. Therefore, all cylinders marked and certified as requalified by Fire Safety Products after August 1998, may pose a safety risk to the public and should be considered unsafe for use in hazardous materials service until retested by a DOT-authorized facility.

Fire Safety Products' Retester Identification Number (RIN) is C716. The cylinders in question are stamped with RIN C716 in the following pattern:

C 7
M Y
61

M is the month of retest (e.g., 10), and Y is the year of the retest (e.g., 01).

Anyone who has a cylinder serviced by Fire Safety Products since August 3, 1998, and has not retested the cylinder since then, should consider the cylinder unsafe and not fill it with a hazardous material unless the cylinder is first properly retested by a DOT-authorized retest facility. Cylinders described in this safety advisory that are filled with an atmospheric gas should be vented or otherwise safely discharged and then taken to a DOT-authorized cylinder retest facility for proper retest . This action is to determine compliance with the HMR and to ensure the cylinders' suitability for continuing service. Cylinders described in this safety advisory that are filled with a material other than an atmospheric gas should not be vented, but instead should be safely discharged. Upon discharge, the cylinders should be taken to a DOT-authorized cylinder retest facility for proper retest to determine compliance with the HMR and to ensure their suitability for continuing service. The inspector can provide a list of authorized retest facilities in your area, or you may obtain the list at the following website: http://hazmat.dot.gov. Under no circumstance should a cylinder described in this safety advisory be filled, refilled or used for its intended purpose until it is reinspected and retested by a DOT-authorized retest facility.

RSPA requests that any person possessing a cylinder described in this safety advisory telephone or provide a facsimile to Inspector Lima with the following information for each cylinder: (1) The cylinder manufacturer's name, (2) the serial number of the cylinder, (3) the DOT specification or exemption information for the cylinder, and (4) the month and year of the last marked retest by Fire Safety Products.

Issued in Washington, DC, on February 28, 2002.
Frits Wybenga,
Deputy Associate Administrator for Hazardous Materials Safety.

[FR Doc. 02-5344 Filed 3-5-02; 8:45 am]

BILLING CODE 4910-60-P